DEPARTMENT OF DEFENSE

Office of the Secretary

[Docket ID: DoD-2023-OS-0106]

Submission for OMB Review; Comment Request

AGENCY: Office of the Under Secretary of Defense for Intelligence and Security, (OUSD(I&S)), Department of Defense, (DoD).

ACTION: 30-Day information collection notice.

SUMMARY: The DoD has submitted to the Office of Management and Budget (OMB) for clearance the following proposal for collection of information under the provisions of the Paperwork Reduction Act.

DATES: Consideration will be given to all comments received by April 10, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: AARO Contact Form for Authorized Reporting; OMB Control Number: 0704-0674.

Type of Request: Extension.

Number of Respondents: 2,500.

Responses per Respondent: 1.

Annual Responses: 2,500.

Average Burden per Response: 5 minutes.

Annual Burden Hours: 208.

Needs and Uses: The All-domain Anomaly Resolution Office (AARO) Contact Form for Authorized Reporting information collection will be used to gather contact information, to include Personally Identifiable Information (PII), from members of the public. The collection is necessary to enable the AARO, Office of the Secretary of Defense, Department of Defense, to meet its statutory requirements.

The proposed information collection, AARO Contact Form for Authorized Reporting, enables AARO to comply with Section 1673 of the James M. Inhofe National Defense Authorization Act for Fiscal Year 2023 (FY23 NDAA), which directs AARO to establish a secure mechanism for authorized reporting of U.S. Government programs and activities related unidentified anomalous phenomena (UAP). The form will collect contact information from current and former U.S. Government employees, service members, and contractors who wish to make an authorized report to AARO. The collection is necessary to enable persons wanting to make a report to contact AARO directly.

The AARO Contact Form for Authorized Reporting also supports Section 1683 of the FY23 NDAA, which directs AARO to produce a Historical Record Report (HRR) on U.S. Government activities and events related to UAP from 1945 to present. Oral history interviews, records of the National Archive, open source research, and all records and documents from U.S. Government agencies are the foundational pillars of information supporting the HRR. The AARO Contact Form for Authorized Reporting enables AARO to contact individuals to schedule oral history interviews.

The respondents are current and former U.S. Government employees, service members, and contractors who want to contact AARO in furtherance of providing authorized reporting regarding potential U.S. Governments activities and events related to UAP. The respondents will be asked to voluntarily provide their contact information by completing fields and using drop down menus on a page within AARO's website (www.aaro.mil). This form is the only collection instrument, is 100 percent electronic, and is accessible by any web browser, via both desktop and mobile device. The collection is sent to AARO once the respondent clicks the “Submit” button on the website. No other communications are sent to the respondents that solicit responses. The Office of the Secretary of Defense Public Affairs will notify the public when AARO's contact form is available for use.

Information, including PII, collected from the public will be processed and stored in an electronic environment accredited to handle and secure PII. AARO will then review submitted information to prioritize potential oral history interviews of persons so that they might make an authorized report. The end result of the information collection is the successful ability of individuals to contact AARO, provide a report, and contribute to the HRR, and for AARO to meet its statutory requirements.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: February, 28 2024.
Aaron T. Siegel,
Alternate OSD Federal Register Liaison Officer, Department of Defense.

[FR Doc. 2024-05062 Filed 3-8-24; 8:45 am]

BILLING CODE 6001-FR-P